DEPARTMENT OF JUSTICE

[CPCLO Order No. 005-2012]

Privacy Act of 1974; System of Records

AGENCY: Drug Enforcement Administration, United States Department of Justice.

ACTION: Modified System of Records.

SUMMARY: Pursuant to the provisions of the Privacy Act of 1974 (5 U.S.C. 552a), the United States Department of Justice (“DOJ” or “Department”) Drug Enforcement Administration (DEA) proposes to modify JUSTICE/DEA-008, “Investigative Reporting and Filing System” (“IRFS”). IRFS was last published in its entirety in the Federal Register at 61 FR 54219, Oct. 17, 1996. The Department proposes to modify IRFS to update, add to, and/or clarify the system location, the categories of individuals covered by the system, the categories of records in the system, the authorities for the maintenance of the system, the purposes of the system, the system's routine uses, the policies and practices for storing, retrieving, accessing, retaining, and disposing of records in the system, the system manager, the notification procedures, the record access procedures, the contesting record procedures, the record source categories, and the exemptions claimed for the system. These changes are made in the wake of legislative changes, to improve mandated cooperation between law enforcement and intelligence entities, and to reflect the modernization of DEA's information systems.

DATES: In accordance with 5 U.S.C. 552a(e)(4) and (11), the public is given a 30-day period in which to comment. Therefore, please submit any comments by May 11, 2012.

ADDRESSES: The public, Office of Management and Budget (OMB), and Congress are invited to submit any comments to the Department of Justice, ATTN: Privacy Analyst, Office of Privacy and Civil Liberties, Department of Justice, National Place Building, 1331 Pennsylvania Avenue, Suite 1000, Washington, DC 20530, or by facsimile at (202) 307-0693.

FOR FURTHER INFORMATION CONTACT: DEA Headquarters, Attn: CCA/Chief, 8701 Morrissette Drive, Springfield, VA 22152. To ensure proper handling, please reference the CPCLO Order No. on your correspondence.

In accordance with 5 U.S.C. 552a(r), the Department has provided a report to OMB and Congress on the modified system of records.

Dated: March 12, 2012.
Nancy C. Libin,
Chief Privacy and Civil Liberties Officer, United States Department of Justice.

JUSTICE/DEA-008

SYSTEM NAME:

Investigative Reporting and Filing System

SYSTEM CLASSIFICATION:

Classified and unclassified information.

SYSTEM LOCATION:

Records in this system are located at the Headquarters Offices of the Drug Enforcement Administration (DEA) in the Washington, DC area, at DEA field offices around the world, at Department of Justice Data Centers, at the DEA Data Center, at secure tape backup storage facilities, and at Federal Records Centers. See www.dea.gov for DEA office locations.

CATEGORIES OF INDIVIDUALS COVERED BY THE SYSTEM:

A. Drug offenders;

B. Alleged drug offenders;

C. Persons suspected of conspiring to commit, aiding or abetting the commission of, or committing a drug offense;

D. Defendants and respondents; and

E. Other individuals related to, or associated with, DEA's law enforcement investigations into and intelligence operations about the individuals described above in subcategories A through D, including witnesses, confidential sources, and victims of crimes.

The offenses and alleged offenses associated with the individuals described above may include criminal, civil, and administrative violations of the Comprehensive Drug Abuse Prevention and Control Act of 1970, as amended and related statutes.

F. System users in connection with audit log information.

CATEGORIES OF RECORDS IN THE SYSTEM:

The system contains law enforcement intelligence and investigative information in paper and/or electronic form, including information compiled for the purpose of identifying criminal, civil, and regulatory offenders; reports of investigations; identifying data and notations of arrest, the nature and disposition of allegations and charges, sentencing, confinement, release, and parole and probation status; intelligence information on individuals suspected to be violating laws and regulations; fingerprints and palmprints; laboratory reports of evidence analysis; photographs; records of electronic surveillance; seized property reports; and polygraph examinations. The system also maintains audit log information.

AUTHORITY FOR MAINTENANCE OF THE SYSTEM:

Authority to establish and maintain this system is contained in 5 U.S.C. 301 and 44 U.S.C. 3101, which authorize the Attorney General to create and maintain federal records of agency activities, as well as in specific statutory and regulatory authorities described at 21 U.S.C. 801 et seq., and in E.O. 12333, as amended.

PURPOSE(S):

The purpose of this system is to enforce the Comprehensive Drug Abuse Prevention and Control Act of 1970, as amended, its implementing regulations, and related statutes.

ROUTINE USES OF RECORDS MAINTAINED IN THE SYSTEM, INCLUDING CATEGORIES OF USERS AND THE PURPOSES OF SUCH USES

(a) To any criminal, civil, or regulatory law enforcement authority (whether federal, state, local, territorial, tribal, or foreign) where the information is relevant to the recipient authority's law enforcement responsibilities.

(b) To any person or entity if deemed by the DEA to be necessary in order to elicit information or cooperation from the recipient for use by the DEA in the performance of an authorized law enforcement activity.

(c) To a domestic or foreign governmental entity lawfully engaged in national security or homeland defense for the entity's official responsibilities.

(d) To a governmental regulatory authority where the information is relevant to the recipient authority's official enforcement responsibilities.

(e) To any person or entity to the extent necessary to prevent an imminent or potential crime which directly threatens loss of life or serious bodily injury.

(f) To the news media and the public, including disclosures pursuant to 28 CFR 50.2, unless it is determined that release of the specific information in the context of a particular case would constitute an unwarranted invasion of personal privacy.

(g) To a Member of Congress or staff acting upon the Member's behalf when the Member or staff requests the information on behalf of, and at the request of, the individual who is the subject of the record.

(h) To the National Archives and Records Administration for purposes of records management inspections conducted under the authority of 44 U.S.C. 2904 and 2906.

(i) In an appropriate proceeding before a court, grand jury, or administrative or adjudicative body, when the Department of Justice or the DEA determines that the records are arguably relevant to the proceeding; or in an appropriate proceeding before an administrative or adjudicative body when the adjudicator determines the records to be relevant to the proceeding.

(j) To appropriate agencies, entities, and persons when (1) the Department or the DEA suspects or has confirmed that the security or confidentiality of information in the system of records has been compromised; (2) the Department or the DEA has determined that as a result of the suspected or confirmed compromise there is a risk of harm to economic or property interests, identity theft or fraud, or harm to the security or integrity of this system or other systems or programs (whether maintained by the Department, the DEA, or another agency or entity) that rely upon the compromised information; and (3) the disclosure made to such agencies, entities, and persons is reasonably necessary to assist in connection with the Department's or the DEA's efforts to respond to the suspected or confirmed compromise and prevent, minimize, or remedy such harm.

(k) To any person, organization, or governmental entity in order to notify them of a serious terrorist threat for the purpose of guarding against or responding to such a threat.

(l) To contractors, grantees, experts, consultants, students, and others performing or working on a contract, service, grant, cooperative agreement, or other assignment for the federal government, when necessary to accomplish an agency function related to this system of records.

(m) To an actual or potential party to litigation or the party's authorized representative for the purpose of negotiation or discussion of such matters as settlement, plea bargaining, or in informal discovery proceedings.

(n) To a former employee of the Department for purposes of: Responding to an official inquiry by a federal, state, or local government entity or professional licensing authority, in accordance with applicable Departmental regulations; or facilitating communications with a former employee that may be necessary for personnel-related or other official purposes where the Department requires information and/or consultation assistance from the former employee regarding a matter within that person's former area of responsibility.

(o) To such recipients and under such circumstances and procedures as are mandated by federal statute or treaty.

(p) To federal, state, local, territorial, tribal, foreign, or international licensing agencies or associations which require information concerning the suitability or eligibility of an individual for a license or permit.

(q) To an appropriate federal agency or entity when the information is relevant to a decision concerning the hiring, appointment, or retention of an employee; the assignment, detail, or deployment of an employee; the issuance, renewal, suspension, or revocation of a security clearance; the execution of a security or suitability investigation; the letting of a contract; or the issuance of a grant or benefit.

(r) To an appropriate state, local, territorial, or tribal agency or entity when the information is relevant to a decision concerning the hiring, appointment, or retention of an employee for a position of public trust, welfare, security, or safety.

(s) To an appropriate federal, state, local, territorial, or tribal agency or entity where the information is relevant to: An application, notice, or similar filing by, to become, be employed by, or be affiliated with a national bank, federal branch or agency of a foreign bank, or insured depository institution; or an administrative proceeding that could lead to an order against a national bank, federal branch or agency of a foreign bank, or insured depository institution or individuals occupying positions as institution-affiliated parties (whether or not such position is held with an insured or non-insured national bank or federal branch or agency or with any other insured depository institution).

(t) To complainants and/or victims (or the immediate family of a deceased victim) to the extent necessary to provide such persons with information and explanations concerning the progress and/or results of the investigation or case arising from the matters of which they complained and/or of which they were a victim.

(u) To any person or entity, where the information is necessary to facilitate the provision of support or assistance to DEA's law enforcement mission.

(v) To a first responder, health care provider, health department, social services department, and youth and family services department for the entity's official responsibilities.

(w) To the director of a treatment agency or the director of a facility to which a juvenile has been committed by the court in accordance with 18 U.S.C. 5038(a)(4).

(x) To a federal, state, local, or territorial department of taxation and department of revenue, for the entity's official responsibilities.

(y) To appropriate persons or entities, including multidisciplinary child abuse teams, in accordance with state or federal child abuse reporting laws.

(z) To a National Guard unit or entity where the information is relevant to its official responsibilities.

(aa) To the United Nations and its employees to the extent that the information is relevant to the recipient's law enforcement or international security functions.

DISCLOSURE TO CONSUMER REPORTING AGENCIES:

None.

POLICIES AND PRACTICES FOR STORING, RETRIEVING, ACCESSING, RETAINING, AND DISPOSING OF RECORDS IN THE SYSTEM: STORAGE:

Records in this system are stored on paper and/or electronic media. Electronic records are maintained within information system resources or removable media such as floppy disks, compact disks, magnetic tapes, and optical disks.

RETRIEVABILITY:

Records are retrieved by identifying particulars assigned to individuals such as name, alias, Social Security Number, DEA registration number, and other DEA-assigned number.

SAFEGUARDS:

Both electronic and paper records are safeguarded in accordance with appropriate laws, rules, and policies, including DOJ and DEA policies. They are protected by physical security methods and dissemination and access controls. Access to all records is controlled and limited to approved personnel with an official need for access to perform their duties. Paper files are stored: (1) In a secure room with controlled access; (2) in locked file cabinets; and/or (3) in other appropriate GSA approved security containers. Protection of information system resources is provided by management, operational, and technical security controls. Records are located in a building with restricted access and are kept in a locked room with controlled access, or are safeguarded with an approved encryption technology. The use of individual passwords or user identification codes is required to access information system resources.

RETENTION AND DISPOSAL:

Records in this system will be retained and disposed of in accordance with record retention schedules approved by the National Archives and Records Administration.

SYSTEM MANAGER(S) AND ADDRESS:

Chief of Operations, Operations Division and Assistant Administrator for Intelligence, Intelligence Division, DEA Headquarters, 8701 Morrissette Drive, Springfield, VA 22152.

NOTIFICATION PROCEDURE:

Same as Record Access procedures.

RECORD ACCESS PROCEDURES:

A request for access to a record from this system shall be made in accordance with 28 CFR Part 16 to DEA Headquarters, Attn: Operations Unit (SARF), 8701 Morrissette Drive, Springfield, Virginia 22152. The envelope and letter should be clearly marked “Privacy Act Request.” The request should include a description of the records sought and must include the requester's full name, current address, and date and place of birth. The request must be signed, either notarized or submitted under penalty of perjury, and dated. An individual who is the subject of a record in this system may access those records that are not exempt from disclosure. A determination of whether a record may be accessed will be made after a request is received. Although no specific form is required, you may obtain forms for this purpose from the FOIA/PA Mail Referral Unit, Justice Management Division, United States Department of Justice, 950 Pennsylvania Avenue NW., Washington, DC 20530-0001, or on the Department of Justice Web site at www.usdoj.gov/04foia/att_d.htm.

CONTESTING RECORD PROCEDURES:

Individuals desiring to contest or amend information maintained in the system should direct their requests according to the Record Access Procedures listed above, stating clearly and concisely what information is being contested, the reasons for contesting it, and the proposed amendment to the information sought. Some information is not subject to amendment. An individual who is the subject of a record in this system may seek amendment of those records that are not exempt. A determination of whether a record may be contested or amended will be made after a request is received.

RECORD SOURCE CATEGORIES:

(a) DEA employees, DEA-deputized state and local law enforcement officers, cross-designated federal law enforcement officers, and DEA contractors, (b) Confidential informants, witnesses, and other cooperating individuals and entities, (c) Suspects, defendants, and respondents, (d) federal, state, local, territorial, tribal, and foreign governmental entities, (e) drug and chemical companies, (f) law enforcement databases, (g) public and open source records and commercial database.

EXEMPTIONS CLAIMED FOR THE SYSTEM:

The Attorney General has exempted records in this system from subsections (c)(3) and (4); (d)(1), (2), (3), and (4); (e)(1), (2), (3), (4)(G), (H), (I), (5), and (8); (f); (g); and (h) of the Privacy Act pursuant to 5 U.S.C. 552a(j) and (k). The exemptions will be applied only to the extent that information in a record is subject to exemption pursuant to 5 U.S.C. 552a(j)(2), (k)(1), or (k)(2). Rules have been promulgated in accordance with the requirements of 5 U.S.C. 553(b), (c) and (e) and are published in today's Federal Register.

[FR Doc. 2012-8764 Filed 4-10-12; 8:45 am]

BILLING CODE 4410-09-P